DEPARTMENT OF THE INTERIOR

National Park Service

43 CFR Part 10

Consultation On Regulations Regarding The Disposition Of Unclaimed Native American Human Remains, Funerary Objects, Sacred Objects, Or Objects Of Cultural Patrimony Excavated Or Discovered On Federal Or Tribal Lands After November 16, 1990, Pursuant To Provisions Of The Native American Graves Protection And Repatriation Act (NAGPRA)

AGENCY: National Park Service, Interior.

ACTION: Notice of consultation.

SUMMARY: This notice of consultation announces three consultation meetings that will be held to obtain oral and written recommendations on regulations to be drafted regarding the disposition of unclaimed Native American human remains, funerary objects, sacred objects, or objects of cultural patrimony that are excavated or discovered on Federal or tribal lands after November 16, 1990.

DATES: The three consultation meetings are scheduled for April 18-20, 2007:

1. Tribal consultation: April 18, 2007, 8:30 a.m. to noon, U.S. Department of the Interior, South Building Auditorium, 1951 Constitution Avenue NW, Washington, DC 20245. Authorized representatives of Indian tribes and Native Hawaiian organizations and traditional Native American religious leaders are invited to participate in this meeting. Tribal representatives wishing to make a public presentation at this session should submit a request to do so by April 13, 2007, including evidence that you are authorized to speak on behalf of an Indian tribe or Native Hawaiian organization.

2. Museum consultation: April 18, 2007, 1 p.m. to 4:30 p.m., U.S. Department of the Interior, South Building Auditorium, 1951 Constitution Avenue NW., Washington, DC 20245. Authorized representatives of museums and national museum and scientific organizations are invited to participate in this meeting. Museum representatives wishing to make a public presentation at this session should submit a request to do so by April 13, 2007, including evidence that you are authorized to speak on behalf of a museum or national museum or scientific organization.

3. Review Committee consultation: April 19-20, 2007, Sidney R. Yates Auditorium, Main Interior Building, 1849 C Street NW., Washington, DC 20240. Time will be scheduled during the Review Committee meeting for members of the public to provide oral and written recommendations. Members of the public wishing to make a public presentation at the Review Committee meeting should submit a request to do so by April 13, 2007.

Requests to make presentations at any of the sessions should be faxed to (202) 371-5197 by April 13, 2007. Written comments should be postmarked or faxed to Sherry Hutt as indicated under ADDRESSES no later than May 1, 2007.

ADDRESSES: Written comments may be mailed to Sherry Hutt, Manager, National NAGPRA Program, National Park Service, 1849 C Street NW, Washington, DC 20240. Comments may also be faxed to Sherry Hutt at (202) 371-5197.

Before including your address, phone number, e-mail address, or other personal identifying information in your comment, you should be aware that your entire comment - including your personal identifying information - may be made publicly available at any time. While you can ask us in your comment to withhold your personal identifying information from public review, we cannot guarantee that we will be able to do so.

The consultation sessions with Indian tribes, Native Hawaiian organizations, traditional Native American religious leaders, museums and national museum and scientific organizations on April 18, 2007 will be held at U.S. Department of the Interior, South Building Auditorium, 1951 Constitution Avenue NW, Washington, DC 20245. The consultation session with the Native American Graves Protection and Repatriation Review Committee on April 19-20, 2007 will be held at the Sidney R. Yates Auditorium, Main Interior Building, 1849 C Street NW., Washington, DC 20240. All individuals attending the consultation sessions will be required to present photo identification to security officers to gain access to the U.S. Department of the Interior buildings.

FOR FURTHER INFORMATION CONTACT: Sherry Hutt, Manager, National NAGPRA Program, National Park Service, 1849 C Street NW., Washington, DC 20240, telephone: (202) 354-1479.

SUPPLEMENTARY INFORMATION: The purpose of the consultation meetings is to provide Native American organizations, museums and the scientific community, and the Native American Graves Protection and Repatriation Review Committee with an opportunity to consult on forthcoming regulations regarding the disposition of unclaimed Native American human remains, funerary objects, sacred objects, or objects of cultural patrimony excavated or discovered on Federal or tribal lands after November 16, 1990.

The April 18, 2007, 8:30 a.m to noon consultation meeting supports the Secretary of the Interior's administrative policy on tribal consultation by encouraging maximum direct participation of representatives of tribal governments on important Departmental issues and processes.

The April 18, 2007, 1 p.m. to 4:30 p.m. consultation meeting supports the Secretary of the Interior's responsibility to consult with museums and the scientific community in the development of these regulations.

The April 19-20, 2007 consultation meeting supports the Secretary of the Interior's responsibility to consult with the Review Committee regarding the development of regulations.

The Native American Graves Protection and Repatriation Act provides criteria for determining the ownership of Native American cultural items that are excavated or discovered on Federal or tribal lands after November 16, 1990 [25 U.S.C. 3002 (a)]. Ownership or control of such items is, with priority given in the order listed:

(1) In the case of human remains and associated funerary objects, in the lineal descendant of the deceased individual;

(2) In cases where the lineal descendant cannot be ascertained or no claim is made, and with respect to unassociated funerary objects, sacred objects, and objects of cultural patrimony:

(i) In the Indian tribe on whose tribal land the human remains, funerary objects, sacred objects, or objects of cultural patrimony were discovered inadvertently;

(ii) In the Indian tribe or Native Hawaiian organization that has the closest cultural affiliation with the human remains, funerary objects, sacred objects, or objects of cultural patrimony;

(iii) In circumstances in which the cultural affiliation of the human remains, funerary objects, sacred objects, or objects of cultural patrimony cannot be ascertained and the objects were discovered inadvertently on Federal land that is recognized by a final judgment of the Indian Claims Commission or the United States Court of Claims as the aboriginal land of an Indian tribe:

(A) In the Indian tribe aboriginally occupying the Federal land on which the human remains, funerary objects, sacred objects, or objects of cultural patrimony were discovered, or

(B) If it can be shown that a different Indian tribe or Native Hawaiian organization has a stronger cultural relationship with the human remains, funerary objects, sacred objects, or objects of cultural patrimony, in the Indian tribe or Native Hawaiian organization that has the strongest demonstrated relationship with the objects [43 CFR 10.6 (a)].

The Act directs that Native American cultural items not claimed under subsection (a) shall be disposed of in accordance with regulations promulgated by the Secretary of the Interior in consultation with the Review Committee, Native American groups, representatives of museums, and the scientific community [25 U.S.C. 3002 (b)]. One section of the regulations was reserved for procedures to effect the disposition of Native American cultural items that are not claimed [43 CFR 10.7].

Participants in the consultation meetings are requested to comment on the following issues:

(1) How should the regulations address distinctions between:

(a) human remains, funerary objects, sacred objects, or objects of cultural patrimony remaining in Federal care for which ownership or control is with a lineal descendant or an Indian tribe or Native Hawaiian organization on whose lands the cultural items were discovered?

(b) human remains, funerary objects, sacred objects, or objects of cultural patrimony remaining in Federal care for which an Indian tribe or Native Hawaiian organization has stated a claim based on cultural affiliation, aboriginal land, or cultural relationship?

(c) human remains, funerary objects, sacred objects, or objects of cultural patrimony remaining in Federal care for which a non-federally recognized Indian group has stated a claim based on a relationship of shared group identity?

(d) human remains and associated funerary objects remaining in Federal care for which no claim has been made?

(2)Do current regulations regarding the curation of Federally-owned and administered archaeological collections [36 CFR 79] adequately address the management, preservation, and use of human remains, funerary objects, sacred objects, or objects of cultural patrimony remaining in Federal care?

Dated: April 5, 2007.
Sherry Hutt,
Manager, National NAGPRA Program.

[FR Doc. E7-6789 Filed 4-10-07; 8:45 am]

BILLING CODE 4312-50-S